FEDERAL RETIREMENT THRIFT INVESTMENT BOARD

Sunshine Act Meeting

Time and Date: 9 a.m. (edt), June 20, 2005.

Place: 4th Floor Conference Room, 1250 H Street, NW., Washington, DC.

Status: Parts will be open to the public and parts closed to the public.

Matters To Be Considered:

Parts Open to the Public

1. Approval of the minutes of the May 16, 2005, Board member meeting.

2. Thrift Savings Plan activity report by the Executive Director.

Parts Closed to the Public

3. Procurement.

4. Personnel.

Contact Person for More Information: Thomas J. Trabucco, Director, Office of External Affairs. (202) 942-1640.

Dated: June 8, 2005.
Elizabeth S. Woodruff,
Secretary to the Board, Federal Retirement Thrift Investment Board.

[FR Doc. 05-11723 Filed 6-9-05; 11:58 am]

BILLING CODE 6760-01-P